DEPARTMENT OF AGRICULTURE

Forest Service

Notice of New Fee Site

AGENCY: Rio Grande National Forest, USDA Forest Service.

ACTION: Notice of New Fee Site; Federal Lands Recreation Enhancement Act, (Title VIII, Pub. L. 108-447).

SUMMARY: The Rio Grande National Forest is proposing to add a cabin for rent to the public for a $50 fee for the overnight rental. It was recently renovated and has public interest in utilizing the facility. Rentals of other cabins on the Rio Grande National Forest have shown that people appreciate and enjoy the availability of historic rental cabins. Funds from the rental will be used to continued operations and maintenance of Duncan Cabin. People are invited to comment on this proposal.

DATES: Send any comments about these fee proposals by October 1, 2013 so comments can be compiled, analyzed and shared with a Recreation Resource Advisory Committee. Duncan Cabin will become available for recreation rental July 15, 2014 pending recommendations from the Colorado Recreation Resource Advisory Committee.

ADDRESSES: Forest Supervisor, Rio Grande National Forest, 1803 West Highway 160, Monte Vista, CO 81144.

FOR FURTHER INFORMATION CONTACT: Jim Pitts, Saguache District Ranger, 719-655-2547.

SUPPLEMENTARY INFORMATION: The Federal Recreation Lands Enhancement Act (Title VII, Pub. L. 108-447) directed the Secretary of Agriculture to publish a six month advance notice in the Federal Register whenever new recreation fee areas are established. This new fee will be reviewed by a Recreation Resource Advisory Committee prior to a final decision and implementation.

The Duncan cabin is located in the Rio Grande National Forest, part of the ghost-town of Duncan, 12 miles southeast of Crestone, CO in the foothills of the Sangre De Cristo Wilderness. A cooperative project with HistoriCorp conducted a restoration project of the cabin. Deteriorated sill logs and the log crib were repaired with epoxy or replaced, as necessary, wood flooring was installed and the foundation stabilized, and the roof had wood decking replaced and was re-roofed with cedar shingles. The project was completed in September of 2011.

Dated: March 7, 2013.
James Pitts,
Saguache District Ranger.

[FR Doc. 2013-06270 Filed 3-18-13; 8:45 am]

BILLING CODE 3410-11-P